DEPARTMENT OF TRANSPORTATION

Federal Aviation Administration

14 CFR Part 71

[Docket No. FAA-2006-25153; Airspace Docket No. 06-AWP-10]

RIN 2120-AA66

Amendment to Class D Airspace; Broomfield, CO

AGENCY: Federal Aviation Administration (FAA), DOT.

ACTION: Final rule.

SUMMARY: This action amends the Class D airspace area at Broomfield, CO. A review of the legal description revealed that it does not reflect the current airport reference point (ARP) for Jefferson County Airport.

DATES: Effective Date: 0901 UTC, September 28, 2006.

FOR FURTHER INFORMATION CONTACT: Francie Hope, Western Terminal Operations Airspace Specialist, AWP-520.3, Federal Aviation Administration, 15000 Aviation Boulevard, Lawndale, California 90261, telephone (310) 725-6502.

SUPPLEMENTARY INFORMATION:

History

An examination of the Class D airspace area designation at Broomfield, CO, revealed that the legal description did not reflect the current ARP for Jefferson County Airport. This action will change the latitude of the ARP for the airport. Class D airspace areas are published in Paragraph 5000 of FAA Order 7400.9N, dated September 1, 2005, and effective September 15, 2005, which is incorporated by reference in 14 CFR 71.1. The Class D airspace designation listed in this document will be published subsequently in the Order.

The Rule

This action amends Title 14 Code of Federal Regulations (14 CFR) part 71 by amending the latitude in the legal description of Jefferson County Airport's ARP. Accordingly, since this action only involves a change in the airport's legal description of the Broomfield, CO, Class D airspace area, and does not involve a change in the dimensions or operating requirements of that airspace, notice and public procedure under 5 U.S.C. 533(b) are unnecessary. The FAA has determined that this regulation only involves an established body of technical regulations for which frequent and routine amendments are necessary to keep them operationally current. Therefore, this regulation: (1) Is not a “significant regulatory action” under Executive Order 12866; (2) is not a “significant rule” under Department of Transportation Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9N, Airspace Designations and Reporting Points, dated September 1, 2005, and effective September 15, 2005, is amended as follows:

Paragraph 5000 Class D Airspace.

* * * * *

ANM CO D Broomfield, CO [Amended]

Jefferson County Airport, CO

(Lat. 39°54′32″ N., long. 105°07′02″ W.)

* * * * *

Issued in Los Angeles, California, on July 5, 2006.
Leonard A. Mobley,
Acting Area Director, Western Terminal Operations.

[FR Doc. E6-13196 Filed 8-10-06; 8:45 am]

BILLING CODE 4910-13-P